Proclamation 7508 of November 29, 2001

National Hospice Month, 2001

By the President of the United States of America

A Proclamation

Each year, approximately 700,000 terminally ill patients and their families rely on the invaluable end-of-life care provided by the 3,100 hospice programs located in the United States. Hospice care allows a terminally ill individual to receive professional medical services, pain management therapy, and emotional and spiritual support, without having to enter a hospital. This focus on the patient's quality of life during his or her last illness can make the best of the most challenging of situations.

Hospices create a compassionate atmosphere where patients will be able to die with dignity, preferably in their home environment, surrounded and supported by loved ones, familiar friends, and committed caregivers. Professional and compassionate hospice staff and volunteers, including physicians, nurses, social workers, therapists, and clergy, provide comprehensive care and attend to the particular needs and wishes of each patient. Family members and friends also receive counseling and bereavement care that help them cope with the impending loss of their loved one.

Individuals and groups in the private and public sectors are working together to strengthen and expand hospice programs and to promote their services as a positive alternative for terminally ill patients. Today, hospice care is a full partner in our Nation's health care system, furthering our efforts to provide medical services in more compassionate and cost-effective ways. More important, providing high-quality hospice care reaffirms our belief in the essential dignity of every person, regardless of age, health, or social status, and that every stage of human life deserves to be treated with the utmost respect and care. My Administration remains committed to supporting health care programs like hospice that encourage quality medical care and frequent doctor-patient interaction.

With the observance of National Hospice Month, we recognize those who serve in our Nation's hospices, often as caregivers in the homes of hospice patients. Caring for a terminally ill patient can be emotionally painful, physically exhausting, and financially difficult. I call on all Americans to honor the professionals and volunteers who dedicate their lives to aiding the terminally ill through hospices. And we should use this observance as an opportunity to encourage and help those who take on the challenge of caring for a terminally ill patient in their home or in a hospice facility.

NOW, THEREFORE, I, GEORGE W. BUSH, President of the United States of America, by virtue of the authority vested in me by the Constitution and laws of the United States, do hereby proclaim November 2001 as National Hospice Month. I encourage Americans to increase their awareness of the importance and availability of hospice service and to observe this month with appropriate activities and programs.

IN WITNESS WHEREOF, I have hereunto set my hand this twenty-ninth day of November, in the year of our Lord two thousand one, and of the Independence of the United States of America the two hundred and twenty-sixth.

B

[FR Doc. 01-30146

Filed 12-03-01; 8:45 am]

Billing code 3195-01-P